Proclamation 9041 of October 11, 2013

Columbus Day, 2013

By the President of the United States of America

A Proclamation

Late in the summer of 1492, Christopher Columbus, a renowned navigator and fearless adventurer, set out with three ships into uncharted waters. He hoped to discover a new route to the east—opening trade routes for precious spices and paving the way for his patrons, Ferdinand II and Isabella I, to expand their empire. Instead, more than two months later, his crew spotted the Bahamas, and our world was changed forever.

A son of Genoa, Italy, Columbus blazed a trail for generations of Italians who followed his path across the Atlantic. As we mark the anniversary of his voyage, our Nation embraces the many ways Italian Americans have enriched our culture and our communities—as soldiers who defend our Nation in times of war, as leaders and laborers, as educators and entrepreneurs. This deep-rooted heritage has come to define who we are as a Nation, and it has helped us forge an extraordinary transatlantic partnership with the people of Italy.

As Christopher Columbus and his crew made landfall, they could not have foreseen the ways in which their journey would shake contemporary understanding of the world, or the lasting mark their arrival would leave on the Native American societies they encountered. So as we celebrate the bold legacy of Christopher Columbus, we also pay tribute to the honorable yet arduous history of Native Americans, with whom the United States will always maintain strong nation-to-nation relationships.

As today's dreamers, explorers, scientists, and engineers set their sights on the next great discovery, may they be inspired by Christopher Columbus's tale of unbounded courage and unwavering spirit. And as we pursue knowledge and progress, may we never lose sight of our shared humanity.

In commemoration of Christopher Columbus's historic voyage 521 years ago, the Congress, by joint resolution of April 30, 1934, and modified in 1968 (36 U.S.C. 107), as amended, has requested the President proclaim the second Monday of October of each year as “Columbus Day.”

NOW, THEREFORE, I, BARACK OBAMA, President of the United States of America, do hereby proclaim October 14, 2013, as Columbus Day. I call upon the people of the United States to observe this day with appropriate ceremonies and activities. I also direct that the flag of the United States be displayed on all public buildings on the appointed day in honor of our diverse history and all who have contributed to shaping this Nation.

IN WITNESS WHEREOF, I have hereunto set my hand this eleventh day of October, in the year of our Lord two thousand thirteen, and of the Independence of the United States of America the two hundred and thirty-eighth.

[FR Doc. 2013-24525

Filed 10-17-13; 8:45 am]

Billing code 3295-F4